FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License number: 14202N.

Name: Air Cargo Global Corp.

Address: 170 Neptune Avenue, Brooklyn, NY 11235.

Date revoked: April 19, 2003.

Reason: Failed to maintain a valid bond.

License number: 17570N.

Name: Alpa International Group, Inc.

Address: 2105 NW 79th Avenue, Miami, FL 33122.

Date revoked: March 27, 2003.

Reason: Failed to maintain a valid bond.

License number: 3717F.

Name: Altair Freighting (International) Inc.

Address: 20 Parkside Way, Robinsville, NJ 08691.

Date revoked: December 6, 2002.

Reason: Failed to maintain a valid bond.

License number: 17180F.

Name: American Logistic Co., Inc.

Address: 10840 Warner Avenue, Suite 205, Fountain Valley, CA 92708.

Date revoked: April 4, 2003.

Reason: Failed to maintain a valid bond.

License number: 2557F.

Name: Armesko International Shipping Corp.

Address: 9341 SW 53rd Street, Miami, FL 33165.

Date revoked: March 21, 2003.

Reason: Surrendered license voluntarily.

License number: 1803F.

Name: Blue Sky Blue Sea, Inc. dba American Export Lines dba International Shipping Company.

Address: 12919 S. Figueroa Street, Los Angeles, CA 90061.

Date revoked: March 29, 2003.

Reason: Failed to maintain a valid bond.

License number: 16338N.

Name: Brisk International Express, Inc.

Address: 8542 NW 66th Street, Miami, FL 33166.

Date revoked: April 13, 2003.

Reason: Failed to maintain a valid bond.

License number: 14639N.

Name: Brokers & Cargo Int'l Business, Corp.

Address: 8427 NW 68th Street, Miami, FL 33166.

Date revoked: September 19, 2001.

Reason: Failed to maintain a valid bond.

License number: 11725N.

Name: City Network, Inc.

Address: 9420 W. Foster Ave., Suite 107, Chicago, IL 60656.

Date revoked: April 10, 2003.

Reason: Surrendered license voluntarily.

License number: 4622F.

Name: E & M International L.L.C. dba Worldwide Transport.

Address: 5304 W 135th Street, Hawthorne, CA 90250.

Date revoked: March 23, 2003.

Reason: Failed to maintain a valid bond.

License number: 10355N.

Name: Finlay's Import-Export, Inc. dba Finlay's Ship To Jamaica.

Address: 8700 NW 7th Avenue, Miami, FL 33150.

Date revoked: April 3, 2003.

Reason: Failed to maintain a valid bond.

License number: 12877N.

Name: International Globtrade, Inc. dba Legacy Shipping Line.

Address: 3906 N. Broadway Street, Chicago, IL 60613.

Date revoked: April 19, 2003.

Reason: Failed to maintain a valid bond.

License number: 17938N.

Name: International Transportation Group, Inc.

Address: 372 Doughty Blvd., 2nd Floor, Inwood, NY 11096.

Date revoked: April 18, 2003.

Reason: Failed to maintain a valid bond.

License number: 15920N.

Name: K-Trans America, Inc. dba A-Trans.

Address: 20435 S. Western Avenue, Unit A, Torrance, CA 90501.

Date revoked: April 9, 2003.

Reason: Failed to maintain a valid bond.

License number: 16627N.

Name: L.G. Diamond International Shipping, Inc. dba Diamond International Shipping.

Address: 11340 Muller Street, Downey, CA 90241.

Date revoked: April 3, 2003.

Reason: Failed to maintain a valid bond.

License number: 16896N.

Name: Logistics Advantage, Inc.

Address: 1805 South Elm Street, Alhambra, CA 91803.

Date revoked: April 20, 2003.

Reason: Failed to maintain a valid bond.

License number: 2663NF.

Name: Maarten Intermodal Expeditors, Inc.

Address: 20439 First Avenue, Middleburg Heights, OH 44130.

Date revoked: April 4, 2003.

Reason: Failed to maintain valid bonds.

License number: 17154N.

Name: Mabuhay Cargo Express, Inc.

Address: 1949 W. Washington Blvd., Los Angeles, CA 90018.

Date revoked: April 11, 2003.

Reason: Failed to maintain a valid bond.

License number: 3542F.

Name: Margaret V. Munoz dba Overseas Transport Company.

Address: 201 W. Springfield Avenue, Suite 905, Champaign, IL 61820.

Date revoked: March 23, 2003.

Reason: Failed to maintain a valid bond.

License number: 17519N.

Name: Masters International Logistics, Inc.

Address: 440 Route 17 North, Suite 10B, Hasbrouck Heights, NJ 07604.

Date revoked: April 3, 2003.

Reason: Failed to maintain a valid bond.

License number: 12302N.

Name: Ocean Intermodal, Inc.

Address: 7971 NW 67th Street, Miami, FL 33166.

Date revoked: April 3, 2003.

Reason: Failed to maintain a valid bond.

License number: 16887N.

Name: Promax Automotive, Inc.

Address : 6722 Orangethorpe Avenue, Suite 175, Buena Park, CA 90622.

Date revoked: April 9, 2003.

Reason: Failed to maintain a valid bond.

License number: 14713N.

Name: Seagull Container Line Inc.

Address: 167-43 Porter Road, Jamaica, NY 11434.

Date revoked: April 10, 2003.

Reason: Failed to maintain a valid bond.

License number: 3610NF.

Name: Sorenna.

Address: 3051 E. Maria Street, Rancho Dominguez, CA 90221.

Date revoked: April 3, 2003.

Reason: Failed to maintain valid bonds.

License number: 2189F.

Name: Stavers Corporation.

Address: 165 Truman Terrace, Paramus, NJ 07652.

Date revoked: April 13, 2003.

Reason: Failed to maintain a valid bond.

License number: 4506F.

Name: Thomas G. Madden, Inc.

Address: 100 Inwood Court, Greer, SC 29650.

Date revoked: November 26, 2002.

Reason: Surrendered license voluntarily.

License number: 4100NF.

Name: Trans World Shipments, Inc. dba TWS, Inc.

Address: 5701 NW 7th Street, Suite 100, Miami, FL 33126.

Date revoked: April 4, 2003.

Reason: Failed to maintain valid bonds.

License number: 18077F.

Name: WTS Agencies, Inc.

Address: 1087 Downtowner Blvd., Suite 100, Mobile, AL 36609.

Date revoked: April 11, 2003.

Reason: Failed to maintain a valid bond.

Sandra L. Kusumoto,
Director, Bureau of Consumer Complaints and Licensing.

[FR Doc. 03-11364 Filed 5-6-03; 8:45 am]

BILLING CODE 6730-01-P